DEPARTMENT OF COMMERCE

National Oceanic and Atmospheric Administration

Proposed Information Collection; Comment Request; Recreational Angler Survey of Sea Turtle Interactions

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 18, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Melissa Cook, NOAA's National Marine Fisheries Service (NMFS), Southeast Fisheries Science Center (SFSC), 3209 Frederic Street, Pascagoula, MS, 39567, (228) 549-1628, or melissa.cook@noaa.gov, or Ellen Keane, NOAA's NMFS, Greater Atlantic Regional Fisheries Office (GARFO), 55 Great Republic Drive, Gloucester, MA, 01930, (978) 282-8476, or ellen.keane@noaa.gov.

SUPPLEMENTARY INFORMATION:

I. Abstract

NOAA NMFS would like to conduct an intercept survey to assess the extent of interactions between recreational anglers on piers and other shore-based fishing structures, and sea turtles. This survey will also assess the feasibility of an intercept survey for this purpose in terms response rates and data collection. The survey will be administered on piers and other fixed structures nationwide, but focused within NOAA Fisheries Greater Atlantic Region and Southeast Region, and will survey approximately 36,000 individual recreational fishermen. The respondents will be verbally asked a series of questions, no longer than 5 minutes, and the interviewer will record answers.

II. Method of Collection

The survey will be implemented through verbal interviews.

III. Data

OMB Control Number: 0648-XXXX.

Form Number(s): None.

Type of Review: Regular submission.

Affected Public: Individuals or households.

Estimated Number of Respondents: 36,000.

Estimated Time per Response: 5 minutes.

Estimated Total Annual Burden Hours: 3,000.

Estimated Total Annual Cost to Public: $0 in recordkeeping/recording costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 12, 2017.
Sarah Brabson,
NOAA PRA Clearance Officer.

[FR Doc. 2017-14964 Filed 7-17-17; 8:45 am]

BILLING CODE 3510-22-P